DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of this meeting be announced in the Federal Register.

DATES: Thursday, November 1, 2007. 9 a.m.-5 p.m.; Friday, November 2, 2007. 8:30 a.m.-4 p.m.

ADDRESSES: Red Lion Hanford House, 802 George Washington Way, Richland, Washington, Phone: (509) 946-7611, Fax: (509) 943-8564.

FOR FURTHER INFORMATION CONTACT: Erik Olds, Federal Coordinator, Department of Energy Richland Operations Office, 2440 Stevens Drive, P.O. Box 450, H6-60, Richland, WA, 99352; Phone: (509) 372-8656; or E-mail: Theodore_E_Erik_Olds@orp.doe.gov.

SUPPLEMENTARY INFORMATION: Purpose of the Board: The purpose of the Board is to make recommendations to DOE in the areas of environmental restoration, waste management, and related activities.

Tentative Agenda

• Debrief from Tri-Party Agreement Negotiations Public Workshop.

• Update on Demonstration Bulk Vitrification System Critical Decision 2.

• Discussion on the Hanford Advisory Board Process Manual.

• Tank Waste Committee Updates, includes Tank S-102 Spill event and investigation update; Mission Completion Study; Tank Waste Program Path Forward System Integration; Department of Energy (DOE) Office of River Protection's input to the draft Technology Roadmap and alternatives within; and Tank Closure and Waste Management Environmental Impact Statement.

• River and Plateau Committee Updates, includes draft advice to DOE on readability of technical reports, Comprehensive Land Use Plan and Groundwater and Vadose Zone .

• Budget and Contracts Committee Updates, includes Fiscal Year 2008 Budget Appropriations and Request for Proposals due mid-September.

• Debrief from the EM SSAB Chairs meeting.

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Erik Olds' office at the address or phone number listed above. Minutes will also be available at the following Web site http://www.hanford.gov/?page=413&parent=397.

Issued at Washington, DC, on October 4, 2007.
Rachel Samuel,
Deputy Committee Management Officer.

[FR Doc. E7-20032 Filed 10-10-07; 8:45 am]

BILLING CODE 6450-01-P